DEPARTMENT OF HEALTH AND HUMAN SERVICES

Centers for Medicare & Medicaid Services

[Document Identifiers: CMS-10053, CMS-R-142, CMS-10066, CMS-R-193, CMS-10464 and CMS-588]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Paid Feeding Assistants in Long-Term Care Facilities and Supporting Regulations at 42 CFR 483.160; Use: In accordance with 42 CFR part 483, long-term care facilities are permitted to use paid feeding assistants to supplement the services of certified nurse aides. If facilities choose this option, feeding assistants must complete a training program. Nursing home providers are expected to maintain a record of all individuals used by the facility as paid feeding assistants. Form Number: CMS-10053 (OCN: 0938-0916); Frequency: Occasionally; Affected Public: Private Sector—Business or other for-profit and not-for-profit institutions; Number of Respondents: 4,250; Total Annual Responses: 4,250; Total Annual Hours: 25,500. (For policy questions regarding this collection contact Shelly Ray at 410-786-7884. For all other issues call 410-786-1326.)

2. Type of Information Collection Request: Extension without change of a currently approved collection; Title of Information Collection: Examination and Treatment for Emergency Medical Conditions and Women in Labor (EMTALA), 42 CFR 482.12, 488.18, 489.20, and 489.24; Use: In accordance with 42 CFR 488.18, 489.20 and 489.24, during Medicare surveys of hospitals and state agencies, CMS will review hospital records for lists of on-call physicians. CMS will also review and obtain the information which must be recorded in hospital medical records for individuals with emergency medical conditions and women in labor. The emergency department reporting the information, Medicare participating hospitals and Medicare state survey agencies must forward the information to CMS. Additionally, CMS will use the Quality Improvement Organizations Report assessing whether an individual had an emergency condition and whether the individual was stabilized to determine whether to impose a civil monetary penalty or physician exclusion sanctions. Without such information, CMS will be unable to make the hospital emergency services compliance determinations as required under sections 1154, 1866 and 1867 of the Consolidated Omnibus Budget Reconciliation Act (COBRA) of 1985. Form Number: CMS-R-142 (OCN: 0938-0667). Frequency: Occasionally; Affected Public: Private Sector (business or other for-profit and not-for-profit institutions); Number of Respondents: 6,149; Total Annual Responses: 6,149; Total Annual Hours: 6,149. (For policy questions regarding this collection contact Renate Dombrowski at 410-786-4645. For all other issues call 410-786-1326.)

3. Type of Information Collection Request: Extension of a currently approved collection; Title of Information Collection: Detailed Notice of Discharge (DND); Use: When a Medicare beneficiary requests a Quality Improvement Organization review of his/her inpatient hospital discharge, hospitals and Medicare plans have used the DND to provide the beneficiary with a detailed explanation regarding the reason for discharge. Form Number: CMS-10066 (OCN: 0938-1019). Frequency: Yearly. Affected Public: Private Sector—Business or other for-profit and not-for-profit institutions; Number of Respondents: 6,169; Total Annual Responses: 12,852; Total Annual Hours: 12,852. (For policy questions regarding this collection contact Evelyn Blaemire at 410-786-1803. For all other issues call 410-786-1326.)

4. Type of Information Collection Request: Extension of a currently approved collection; Title of Information Collection: Important Message from Medicare (IM); Use: Hospitals have used the Important Message from Medicare (IM) to inform original Medicare, Medicare Advantage, and other Medicare plan beneficiaries who are hospital inpatients about their hospital rights and discharge rights. In particular, the IM provides information about when a beneficiary will and will not be liable for charges for a continued stay in a hospital and offers a detailed description of the Quality Improvement Organization review process. Form Number: CMS-R-193 (OCN: 0938-0692). Frequency: Yearly; Affected Public: Private Sector—Business or other for-profit and not-for-profit institutions; Number of Respondents: 6,169; Total Annual Responses: 19,840,000; Total Annual Hours: 2,976,000. (For policy questions regarding this collection contact Evelyn Blaemire at 410-786-1803. For all other issues call 410-786-1326.)

5. Type of Information Collection Request: New collection (Request for a new control number); Title of Information Collection: Agent/Broker Data Collection in Federally-facilitated Health Insurance Exchanges; Use: Both section 1312(e) of the Affordable Care Act and 45 CFR 155.220 permit states to allow agents and brokers to enroll qualified individuals, employers, and employees in QHPs, including through the Exchange; and assist individuals in applying for advance payments of the premium tax credit and cost-sharing reductions. Agents and brokers will serve as additional access points to the Exchange for individuals, SHOP employers or SHOP employees requiring or desiring agent and broker assistance.

In order to interface with the Federally-facilitated Exchange (FFE), agents and brokers must establish an account and obtain a user ID through the CMS Enterprise Portal. Additionally, agents and brokers must register for, and successfully complete, Exchange-specific training, which enforces their understanding of eligibility and enrollment requirements in Exchanges. Agents and brokers must also apply this understanding to the use or development of any non-Exchange Web site, such as an issuer's or web broker's Web site, used as a tool for enrollment. At the conclusion of training, agents and brokers will attest to adhere to FFE standards and requirements. Web-brokers will sign and submit a similar agreement.

We estimate that it will take approximately one-half hour (30 minutes) per applicant to complete all of the data collection activities associated with the process. They must register on-line for a training module; complete an on-line attestation (or, if they are web brokers sign and submit their agreement); and finally, if for some reason they choose to terminate their registration, complete and sign a termination notice. Collectively, these activities will take no more than 30 minutes.

We estimate that approximately 350,000 agents and brokers will seek to register to participate in the FFE. At an estimated 30 minutes (0.50 hours) per broker, that result in 175,000 hours of overall burden. According to the Bureau of Labor and Statistics, Insurance Sales Agents earned an average of $30.48 per hour in 2012. We factored that up by 3% for 2013 and 2014, for an average annual wage of $32.34. Applying that cost factor to the estimated 175,000 hours of burden yields an overall cost estimate of $5,659,500 for the first year of operation.

The 60-day Federal Register notice was published on February 7, 2013 (78 FR 9056). We received nine comments. Of those nine comments, three were related to the information collection request and six were out of scope. Specifically, one commenter requested a process that would allow web-brokers to enroll people without reporting individual issuer appointments, and CMS made this revision to the registration process. We also received some questions about how the training process will work. We confirmed that agents and brokers will only need to register for the FFE once and that CMS will host the training program, as opposed to individual issuers. As a result of the comments, we modified both the registration process and simplified how agents and brokers would participate in the Exchanges to make it align more closely with how issuers, agents, and web-brokers currently do business. Form Number: CMS-10464 (OCN: 0938-NEW); Frequency: Annually; Affected Public: Private Sector—Business or Other For-Profit, Non-For-Profit Institutions, or Farms; Number of Respondents: 350,000; Total Annual Responses: 350,000; Total Annual Hours: 175,000 hours. (For policy questions regarding this collection contact Leigha Basini at 301-492-4307. For all other issues call 410-786-1326.)

6. Type of Information Collection Request: Revision of a currently approved collection. Title of Information Collection: Electronic Funds Transfers Authorization Agreement; Use: The primary function of the Electronic Funds Transfer Authorization Agreement (CMS 588) is to gather information from a provider/supplier to establish an electronic payment process.

The legal authority to collect this information is found in Section 1815(a) of the Social Security Act. This section provides authority for the Secretary of Health and Human Services to pay providers/suppliers of Medicare services. Under 31 U.S.C. 3332(f)(1), all federal payments, including Medicare payments to providers and suppliers, shall be made by electronic funds transfer. 31 U.S.C. 7701 (c) requires that any person or entity doing business with the federal government must provide their Tax Identification Number (TIN).

The goal of this submission is to renew the data collection. Only two minor revisions for systems requirements will be made at this time, specifically adding a street address line for the location of the financial institution and adding an additional National Provider Identification (NPI) number collection field for those providers/suppliers who have more than one NPI. Form Number: CMS-588 (OCN: 0938-0626); Frequency: Occasionally; Affected Public: Private Sector—Business or other for-profits and not-for-profit institutions; Number of Respondents: 94,000; Total Annual Responses: 94,000; Total Annual Hours: 23,500. (For policy questions regarding this collection contact Kim McPhillips at 410-786-5374. For all other issues call 410-786-1326.)

To obtain copies of the supporting statement and any related forms for the proposed paperwork collections referenced above, access CMS Web site address at http://www.cms.hhs.gov/PaperworkReductionActof1995, or Email your request, including your address, phone number, OMB number, and CMS document identifier, to Paperwork@cms.hhs.gov, or call the Reports Clearance Office on (410) 786-1326.

To be assured consideration, comments and recommendations for the proposed information collections must be received by the OMB desk officer at the address below, no later than 5 p.m. on June 17, 2013.

OMB, Office of Information and Regulatory Affairs, Attention: CMS Desk Officer, Fax Number: (202) 395-6974, Email: OIRA_submission@omb.eop.gov.

Dated: May 14, 2013.
Martique Jones,
Deputy Director, Regulations Development Group, Office of Strategic Operations and Regulatory Affairs.

[FR Doc. 2013-11811 Filed 5-16-13; 8:45 am]

BILLING CODE 4120-01-P